INTERNATIONAL TRADE COMMISSION

[Investigation No. 337-TA-1423]

Certain Electronic Eyewear Products, Components Thereof, and Related Charging Apparatuses; Notice of Commission Determination Not To Review an Initial Determination Terminating the Investigation With Respect to Five Respondents Based on Settlement; Termination of the Investigation

AGENCY: U.S. International Trade Commission.

ACTION: Notice.

SUMMARY: Notice is hereby given that the U.S. International Trade Commission has determined not to review an initial determination (“ID”) (Order No. 32) of the presiding administrative law judge (“ALJ”) terminating the investigation with respect to the remaining respondents Bytedance, Ltd.; Bytedance Inc.; Qingdao Chuangjian Weilai Technology Co., Ltd.; Funnico Inc.; and PICO Immersive Pte. Ltd. based on settlement. The investigation is terminated.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On November 18, 2024, the Commission instituted this investigation based on a complaint, as amended, filed on behalf of IngenioSpec, LLC of San Jose, California (“IngenioSpec”). 89 FR 90737-38 (Nov. 18, 2024). The complaint alleged violations of section 337 of the Tariff Act of 1930, as amended, 19 U.S.C. 1337, based upon the importation into the United States, the sale for importation, and the sale within the United States after importation of certain electronic eyewear products, components thereof, and related charging apparatuses that infringe certain claims of U.S. Patent Nos. 10,310,296; 11,762,224; and 12,078,870. Id. at 90738. The complaint also alleged that a domestic industry exists or is in the process of being established. Id. The Commission's notice of investigation named as respondents: (1) ByteDance, Ltd. of Beijing, China, ByteDance Inc. of Wilmington, Delaware, Qingdao Chuangjian Weilai Technology Co., Ltd., of Qingdao City, China, Funnico Inc. of San Jose, California, and PICO Immersive Pte. Ltd., of Singapore (collectively, “ByteDance”); (2) HTC Corporation of Taoyuan City, Taiwan, HTC Europe Co Ltd. of Berkshire, United Kingdom, and HTC Poland SP Z O.O. of Warszawa, Poland (collectively, “HTC”); (3) Meta Platforms, Inc. of Menlo Park, California, Meta Platforms Technologies, LLC of Menlo Park, California, Meta Platforms Technologies Ireland Ltd. of Dublin, Ireland, and Meta Platforms Technologies UK Ltd. of London, United Kingdom (collectively, “Meta”); and (4) Valve Corporation of Bellevue, Washington, and Valve GmbH Corporation of Hamburg, Germany (collectively, “Valve”). Id. The Office of Unfair Import Investigations is not participating in this investigation. Id.

The Commission previously terminated the investigation with respect to Valve, Meta, and HTC. Order No. 8 (Dec. 6, 2024), unreviewed by Comm'n Notice (Jan. 7, 2025) (Valve); Order No. 28 (July 21, 2025), unreviewed by Comm'n Notice (Aug. 14, 2025) (Meta); Order No. 30 (Aug. 8, 2025), unreviewed by Comm'n Notice (Aug. 28, 2025) (HTC).

On August 21, 2025, IngenioSpec and ByteDance filed an unopposed joint motion to terminate the investigation with respect to ByteDance based on a settlement agreement. On September 3, 2025, the parties filed a corrected public version of the motion.

On September 4, 2025, the ALJ issued the subject ID (Order No. 32) granting the motion and terminating the investigation with respect to ByteDance based on settlement pursuant to Commission Rule 210.21(b)(1) (19 CFR 210.21(b)(1)). ID at 1-3. The ALJ also granted the requests to limit service of the confidential settlement agreement and to stay the investigation as to ByteDance. Id. at 1. No petitions for review of the subject ID were received.

The Commission has determined not to review the subject ID. The investigation is hereby terminated with respect to the five ByteDance respondents. Because the five ByteDance respondents were the last five respondents remaining in the investigation, the investigation is hereby terminated.

The Commission vote for this determination took place on September 22, 2025.

The authority for the Commission's determination is contained in section 337 of the Tariff Act of 1930, as amended (19 U.S.C. 1337), and in part 210 of the Commission's Rules of Practice and Procedure (19 CFR part 210).

By order of the Commission.
Issued: September 22, 2025.
Sharon Bellamy,
Supervisory Hearings and Information Officer.

[FR Doc. 2025-18532 Filed 9-24-25; 8:45 am]

BILLING CODE 7020-02-P